DEPARTMENT OF LABOR

Employment and Training Administration

[TA-W-56,876]

American Wood Moulding, LLC, El Paso, Texas; Notice of Negative Determination Regarding Application for Reconsideration

By application of May 18, 2005, petitioners requested administrative reconsideration of the Department's negative determination regarding eligibility to apply for Trade Adjustment Assistance (TAA), applicable to workers and former workers of the subject firm. The denial notice was signed on April 13, 2005, and published in the Federal Register on May 16, 2005 (70 FR 25859).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of American Wood Moulding, LLC, El Paso, Texas engaged in distribution of wood products was denied because the petitioning workers did not produce an article within the meaning of section 222 of the Act.

The petitioner contends that the Department erred in its interpretation of work performed at the subject facility as a service and further conveys that workers of the subject company converted wood products to customer specifications. He further states that because moulding was cut into various length to meet customer requests at the subject facility, workers of the subject firm should be considered engaged in production.

A company official was contacted for clarification in regard to the nature of the work performed at the subject facility. The official stated that the subject firm is strictly a distribution and warehousing facility. The official further clarified that workers of the subject firm do not produce an item, but only occasionally cut finished wood moulding into different lengths as requested by customers. He also stated that by cutting the moulding, workers do not add value or transform the finished moulding into a new and different product, and perform cutting for the retail purposes in the distribution stage.

The sophistication of the work involved is not an issue in ascertaining whether the petitioning workers are eligible for trade adjustment assistance, but rather only whether they produced an article within the meaning of section 222 of the Trade Act of 1974.

Cutting finished products from bulk form into various length as requested by customers in the distribution or retail stage is not considered production of an article within the meaning of section 222 of the Trade Act. Petitioning workers do not produce an “article” within the meaning of the Trade Act of 1974.

The investigation on reconsideration supported the findings of the primary investigation that the petitioning group of workers does not produce an article.

Only in very limited instances are service workers certified for TAA. Namely the worker separations must be caused by a reduced demand for their services from a parent or controlling firm or subdivision whose workers produce an article and who are currently certifiable for TAA; or if the group of workers are leased workers who perform their duties onsite at the TAA certifiable location on established contractual basis.

Conclusion

After review of the application and investigative findings, I conclude that there has been no error or misinterpretation of the law or of the facts which would justify reconsideration of the Department of Labor's prior decision. Accordingly, the application is denied.

Signed in Washington, DC, this 13th day of July, 2005.
Elliott S. Kushner,
Certifying Officer, Division of Trade Adjustment Assistance.

[FR Doc. E5-4213 Filed 8-4-05; 8:45 am]

BILLING CODE 4510-30-P